FEDERAL RESERVE SYSTEM

Change in Bank Control Notices; Acquisitions of Shares of a Bank or Bank Holding Company

The notificants listed below have applied under the Change in Bank Control Act (Act) (12 U.S.C. 1817(j)) and 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than December 29, 2023.

A. Federal Reserve Bank of Atlanta (Erien O. Terry, Assistant Vice President) 1000 Peachtree Street NE, Atlanta, Georgia 30309; Comments can also be sent electronically to Applications.Comments@atl.frb.org:

1. Martha Sigmon Spurlock, Big Stone Gap, Virginia; Rachel Sigmon West, Harrogate, Tennessee; and Andra Sigmon Ostergard, Bluffton, South Carolina; as a group acting in concert, to retain voting shares of Unified Shares, LLC, Harrogate, Tennessee. Unified Shares, LLC, controls Commercial Bancgroup, Inc., which controls Commercial Bank, both of Harrogate, Tennessee. Commercial Bancgroup, Inc., also controls AB&T Financial Corporation, which in turn controls Alliance Bank & Trust Company, both of Gastonia, North Carolina.

In addition, Rachel Sigmon West, Harrogate, Tennessee; and Martha Sigmon Spurlock and Charles Kenneth Spurlock, Jr., both of Big Stone Gap, Virginia; as part of a group acting in concert with Unified Shares, LLC, to retain voting shares of Commercial Bancgroup, Inc.”

B. Federal Reserve Bank of Kansas City (Jeffrey Imgarten, Assistant Vice President) One Memorial Drive, Kansas City, Missouri 64198-0001. Comments can also be sent electronically to KCApplicationComments@kc.frb.org:

1. The Bruce Jessup Trust, Bruce Jessup and Terrie Jessup, as co-Trustees, all of Butler, Missouri; to retain voting shares of Community First Bancshares, Inc. and thereby indirectly retain voting shares of Community First Bank, both of Butler, Missouri. Bruce Jessup, individually, was previously permitted to control Community First Bancshares, Inc.

Board of Governors of the Federal Reserve System.
Michele Taylor Fennell,
Deputy Associate Secretary of the Board.

[FR Doc. 2023-27512 Filed 12-14-23; 8:45 am]

BILLING CODE P